DEPARTMENT OF ENERGY

Federal Energy Regulatory Commission

[Project No. 3-—Pennsylvania]

Pennsylvania Electric Co./GPU Genco; Notice of Meeting

February 11, 2000.

The applicant has scheduled two meetings to present and discuss issues relevant to the Alternative Licensing Process. The meetings will be held on February 23, 2000, at the Holiday Inn, PA Route 68, Clarion, Pennsylvania. At 10:00 am, there will be a meeting for resource agencies, and at 7:00 pm, there will be a meeting for the general public. The agenda for the meeting follows below:

• Findings of completed studies.

• Presentation on alternatives to be discussed in the APEA.

• Discussion of Scoping Document 2 and Draft Operations Protocol.

• Relicensing schedule update.

If you want to attend the meeting, require directions, or have other questions, please contact Thomas Teitt at (814) 533-8028.

Linwood A. Watson, Jr.,
Acting Secretary.

[FR Doc. 00-3762 Filed 2-16-00; 8:45 am]

BILLING CODE 6717-01-M